DEPARTMENT OF COMMERCE

Submission for OMB Review; Comment Request

The Department of Commerce will submit to the Office of Management and Budget (OMB) for clearance the following proposal for collection of information under the provisions of the Paperwork Reduction Act (44 U.S.C. Chapter 35).

Agency: National Telecommunications and Information Administration (NTIA).

Title: State Broadband Data and Development Grant Program.

OMB Control Number: 0660-0032.

Form Number(s): None.

Type of Request: Regular submission (extension of a currently approved collection).

Number of Respondents: 56 respondents and 2,000 subrespondents.

Average Hours per Response: 3,120 hours for respondents and 50 hours for subrespondents.

Burden Hours: 549,440.

Needs and Uses: The State Broadband Data and Development (SBDD) Grant Program implements the joint goals of the American Recovery and Reinvestment Act of 2009 and the Broadband Data Improvement Act by assisting, through grants, states or their designees in gathering and verifying state-specific data on the availability, speed, location, technology and infrastructure of broadband services. The data will be used to develop publicly available state-wide broadband maps and to help populate the comprehensive and searchable national broadband map that NTIA is required under the Recovery Act to create and make publicly available by February 17, 2011.

Affected Public: States, Territories and the District of Columbia, or their designees. Subrespondents include facilities-based providers of broadband connections, incumbent and competitive local exchange carriers, facilities-based mobile telephony service providers, and wireless Internet service providers.

Frequency: Semi-annually.

Respondent's Obligation: Required to retain benefits.

OMB Desk Officer: Nicholas Fraser, (202) 395-5887.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Nicholas Fraser, OMB Desk Officer, FAX number (202) 395-5806, or via the Internet at Nicholas_A._Fraser@omb.eop.gov.

Dated: April 15, 2010.
Gwellnar Banks,
Management Analyst, Office of the Chief Information Officer.

[FR Doc. 2010-9058 Filed 4-19-10; 8:45 am]

BILLING CODE 3510-06-P